DEPARTMENT OF HEALTH AND HUMAN SERVICES

Centers for Medicare & Medicaid Services

[Document Identifier CMS-10411, CMS-10114 and CMS-10390]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: State Balancing Incentive Payments Program (BIPP); Use: The Balancing Incentive Program requires that States undertake three structural changes to their long-term services and supports (LTSS) systems to increase nursing home diversions and access to community-based care: implementation of a No Wrong Door/Single Entry Point System, conflict-free case management, and the use of a core standardized assessment for supporting eligibility determination and service planning. In addition, grantee States must increase their community-based LTSS expenditures relative to their overall expenditures on LTSS to a minimum of 25% or 50%. State Medicaid agencies are responsible for developing the submissions to CMS in order to participate in this opportunity. If the statutory requirements are met, CMS will approve the State's submission, giving the State the authority to implement the changes in the program and to draw down the increased FMAP funds. Form Number: CMS-10411 (OCN 0938-1145); Frequency: Once; Affected Public: State, Local, or Tribal Government; Number of Respondents: 56; Total Annual Responses: 56; Total Annual Hours: 2,240. (For policy questions regarding this collection contact Effie George at (410) 786-8639. For all other issues call (410) 786-1326.)

2. Type of Information Collection Request: Revision of a currently approved collection; Title of Information Collection: National Provider Identifier (NPI) Application and Update Form and Supporting Regulations in 45 CFR 142.408, 45 CFR 162.406, 45 CFR 162.408; Use: The National Provider Identifier (NPI) Application and Update Form is used by health care providers to apply for NPIs and furnish updates to the information they supplied on their initial applications. The form is also used to deactivate their NPIs if necessary. The NPI Application/Update form has been revised to provide additional guidance on how to accurately complete the form. This collection includes clarification on information that is required on initial applications. Minor changes include adding a `delete' check box for removal of information. This collection also includes revisions to the instructions. In addition, we have adjusted the burden downward from the estimate provided in the 60-day Federal Register notice to correct an arithmetic error. Form Number: CMS-10114 (OCN: 0938-0931); Frequency: Reporting—On occasion; Affected Public: Business or other for-profit, Not-for-profit institutions, and Federal government; Number of Respondents: 481,440; Total Annual Responses: 481,440; Total Annual Hours: 89,080. (For policy questions regarding this collection contact Leslie Jones at (410) 786-6599. For all other issues call (410) 786-1326.)

3. Type of Information Collection Request: New collection; Title of Information Collection: Hospice Voluntary Quality Data Reporting Program; Use: Section 1814(i)(5) of the Social Security Act (Act) added by section 3004 of Patient Protection and Affordable Care Act, Public Law 111-148, enacted on March 23, 2010 (Affordable Care Act), authorizes the Secretary to establish a quality reporting program for hospices. Section 1814(i)(5)(A)(i) of the Act requires that the Secretary, beginning with FY 2014, reduce the market basket update by 2 percentage points for any hospice that does not comply with the quality data submission requirements with respect to that fiscal year.

To meet the quality reporting requirements for hospices, as set forth in the proposed Hospice Wage Index for Fiscal Year 2012 rule, we propose that there shall be a voluntary hospice quality reporting cycle which will consist of data collection cycle beginning on October 1, 2011 and continuing through December 31, 2011. This data shall be reported to CMS by no later than January 31, 2012. There shall be a mandatory hospice quality reporting cycle which will consist of data collected from October 1, 2012 through December 31, 2012. This data shall be reported to CMS by no later than April 1, 2013. Thereafter, it is proposed that all subsequent hospice quality reporting cycles will be based on the calendar-year basis (that is, January 1, 2013 through December 31, 2013 for determination of the Hospice market basket increase factor for each Hospice in FY 2015, etc.).

We are requesting an initial approval of a data collection instrument entitled “Quality Data Submission Form” that hospice providers will use to submit quality measures data to CMS during the proposed voluntary reporting period of 10/01/2011 through 12/31/2011. This form shall be used by hospices to report quality data pertaining to one structural measure, which is entitled: Participation in a Quality Assessment and Performance Improvement (QAPI) Program that Includes at Least Three Quality Indicators Related to Patient Care.

Since the publication of the 60-day Federal Register notice, there have been some revision made to the Supporting Statement A and B of this PRA package. These revisions have been made in order to: (1) Correct several very minor errors; (2) make the content of the document more descriptive; and (3) to add additional information about the program that has become available since publication of the 60-day notice. The operational details of the program have progressed and been finalized. Therefore, these changes will reflect information pertaining to operational details of the program that was not available at the time that the PRA package documents were published. There have been no changes to the Information Collection Request that is the subject of this PRA package. There has been no change in the estimated burden that will be required of providers. Form Number: CMS-10390 (OCN: 0938-New); Frequency: Occasionally; Affected Public: Private Sector: Business or other for-profit and not-for-profit institutions; Number of Respondents: 3,531; Total Annual Responses: 3,531; Total Annual Hours: 883. (For policy questions regarding this collection contact Robin Dowell at (410) 786-0060. For all other issues call (410) 786-1326.)

To obtain copies of the supporting statement and any related forms for the proposed paperwork collections referenced above, access CMS Web Site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on December 29, 2011.

OMB, Office of Information and Regulatory Affairs,

Attention: CMS Desk Officer.

Fax Number: (202) 395-6974.

Email: OIRA_submission@omb.eop.gov.

Dated: November 21, 2011.
Martique Jones,
Director, Regulations Development Group, Division B, Office of Strategic Operations and Regulatory Affairs.

[FR Doc. 2011-30732 Filed 11-28-11; 8:45 am]

BILLING CODE 4120-01-P